NATIONAL CREDIT UNION ADMINISTRATION

Sunshine Act; Notice of Agency Meeting

TIME AND DATE: 8:30 a.m., Tuesday, August 3, 2010.

PLACE: Board Room, 7th Floor, Room 7047, 1775 Duke Street, Alexandria, VA 22314-3428.

STATUS: Closed.

MATTER TO BE CONSIDERED: 1. Consideration of Supervisory Activities (3). Closed pursuant to some or all of the following exemptions: (8), (9)(A)(ii) and (9)(B).

FOR FURTHER INFORMATION CONTACT: Mary Rupp, Secretary of the Board, Telephone: 703-518-6304.

Mary Rupp,
Board Secretary.

[FR Doc. 2010-19208 Filed 8-2-10; 11:15 am]

BILLING CODE P